DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public the Substance Abuse and Mental Health Services Administration (SAMHSA) is supporting a supplement in scope of the original award for the one grant recipient funded in fiscal year (FY) 2018 under the Clinical Support System for Serious Mental Illness (CSS-SMI) Notice of Funding Opportunity (NOFO) SM-18-020. The grant recipient may receive up to $2,846,283. The grant recipient's project period will be extended by 12 months until July 8, 2024. The supplemental funding will be used to maintain a national center that provides technical assistance to providers, programs, and communities across the nation to address evidence-based treatment and recovery support programs for individuals living with serious mental illness (SMI).

FOR FURTHER INFORMATION CONTACT: Kimberly E. Reynolds, MPA, MEd, Public Health Advisor and Project Officer, Substance Abuse and Mental Health Services Administration, 5600 Fishers Lane, Rockville, MD 20857, telephone (240) 276-2825; email: Kimberly.Reynolds@samhsa.hhs.gov.

SUPPLEMENTARY INFORMATION:

Funding Opportunity Title: FY 2018 Clinical Support System for Serious Mental Illness Cooperative Agreement SM-18-020.

Assistance Listing: 93.243.

Authority: Section 520A of the Public Health Service Act as amended.

Justification: Eligibility for this supplemental funding is limited to the American Psychiatric Association which was funded in FY 2018 under NOFO SM-18-020. The American Psychiatric Association is uniquely qualified and has the required special expertise to address the implementation and provision of evidence-based treatment and recovery support programs for individuals living with SMI.

This is not a formal request for application. Assistance will only be provided to the sole CSS-SMI grant recipient funded in FY2018 under the Clinical Support System for Serious Mental Illness (CSS-SMI) SM-18-020 based on the receipt of a satisfactory application and associated budget that is approved by a review group.

Dated: April 27, 2023.
Ann Ferrero,
Public Health Analyst.

[FR Doc. 2023-09317 Filed 5-2-23; 8:45 am]

BILLING CODE 4162-20-P